DEPARTMENT OF HOUSING AND URBAN DEVELOPMENT

[Docket No. FR-5130N6]

Privacy Act; Proposed New Systems of Records, Development Application Processing System (DAP/F24A)

AGENCY: Office of the Chief Information Officer, HUD.

ACTION: Establish a new Privacy Act System of Records.

SUMMARY: HUD proposes to establish a new record system to add to its inventory of systems of records subject to the Privacy Act of 1974 (5 U.S.C. 552a), as amended. The proposed new system of record is the Development Application Processing System (DAP) HUD/MFH-08. The DAP system is used for analyzing, processing, and tracking applications for FHA mortgage insurance for loans to purchase, refinance, or build multifamily housing and health care facilities.

DATES: Effective Date: The action will be effective without further notice on August 31, 2007 unless comments are received during or before this period that would result in a contrary determination.

Comments Due Date: August 31, 2007.

ADDRESSES: Interested persons are invited to submit comments regarding this notice to the Rules Docket Clerk, Office of General Counsel, Department of Housing and Urban Development, 451 Seventh Street, SW., Room 10276, Washington, DC 20410. Communications should refer to the above docket number and title. Facsimile (FAX) comments are not acceptable. A copy of each communication submitted will be available for public inspection and copying between 8 a.m. and 5 p.m. weekdays at the above address.

FOR FURTHER INFORMATION CONTACT: The Departmental Privacy Act Officer, 451 Seventh Street SW., Room 4178, Washington, DC 20410, Telephone Number (202) 708-2374 or the System Owner, 451 Seventh Street SW., Room 6150, Washington, DC 20410, telephone number (410) 209-6549. (These are not a toll-free numbers.) Telecommunication device for hearing and speech-impaired individuals (TTY) is available at (800) 877-8339 (Federal Information Relay Service).

SUPPLEMENTARY INFORMATION: Pursuant to the Privacy Act of 1974 (5 U.S.C. 552a(e)(4) and (11)) provide that the public be afforded a 30-day period in which to comment on the new system of records, and require published notice of the existence and character of the system of records.

The new system report was submitted to the Office of Management and Budget (OMB), the Senate Committee on Homeland Security and Governmental Affairs, and the House Committee on Oversight and Government Reform pursuant to paragraph 4c of Appendix 1 to OMB Circular No. A-130, “Federal Responsibilities for Maintaining Records About Individuals,” July 25, 1994 (59 FR 37914).

Authority: 5 U.S.C. 552a, 88 Stat. 1896; 42 U.S.C. 3535(d).

Dated: July 23, 2007.
Lisa Schlosser,
Chief Information Officer.

HUD/MFH-08

System Name:

Development Application Processing System (DAP/F24A).

System Location:

Charleston, West Virginia, and all HUD Field Offices.

Categories of individuals covered by the system:

Mortgagees (Multifamily Map lenders)

Categories of records in the System:

Mortgagees name, Employee Identification Number, Tax Identification Number, Social Security Number, Project address.

Authority for maintenance of the system:

Sec. 113 of the Budget and Accounting Act of 1950 31 U.S.C. 66a. (Pub. L. 81-784).

Purposes:

The information is used to verify that the Mortgagees are approved Lenders by HUD.

Routine uses of records maintained in the system, including categories of users and the purposes of such uses:

In addition to those disclosures generally permitted under 5 U.S.C. 552a(b) of the Privacy Act, other routine uses are as follows:

(a) To the U.S. Treasury—for disbursements and adjustments; and,

(b) To the Internal Revenue Service—for reporting payments for mortgage interest, for reporting of discharge indebtedness and real estate taxes.

Policies and practices for storing, retrieving, accessing, retaining, and disposing of records in the system:

Storage:

Electronic files are stored on disc and back up files are stored on tape. The original documents (hard copy) are stored in each HUD office.

Retrievability:

Information is retrieved via the Project number or the Project status.

Safeguards:

Records are stored in locked cabinets in rooms to which access is limited to those personnel who service the records. Background screening, limited authorizations and access, with access limited to authorized personnel and technical restraints employed with regard to accessing the records; access to automated systems by authorized users by passwords. Only individuals with rights to the Mortgage Credit Discipline can view this type of information.

Retention and disposal:

Are in accordance with GSA schedules of retention and disposal. All manual files are locked in cabinets when not in use. Computerized files/records are retained for 6 weeks. Obsolete records are destroyed after 3 years. Manual files/records are sent to storage upon project receiving final endorsement to the storage facility in Tulsa, OK.

System manager(s) and address:

Acting Director, Multifamily Housing Development (System Owner), Department of Housing and Urban Development, 451 Seventh Street, SW., Room 6150, Washington, DC 20410.

Notification procedure:

For information, assistance, or inquiry about existence of records, contact the Privacy Act Officer, 451 Seventh Street, SW., Room 4178, Washington, DC 20410, in accordance with the procedures in 24 CFR part 16.

Record access procedures:

The Department's rules for providing access to records to the individual concerned appears in 24 CFR part 16. If additional information or assistance is required, contact the Privacy Act Officer at HUD, 451 Seventh Street, SW., Room 4178, Washington, DC 20410.

Contesting record procedures:

The procedures for requesting amendment or correction of records appear in 24 CFR part 16. If additional information is needed, contact:

(i) In relation to contesting contents of records, the Privacy Act Officer at HUD, 451 Seventh Street, SW., Room 4178, Washington, DC 20410; and,

(ii) In relation to appeals of initial denials, HUD, Departmental Privacy Appeals Officer, Office of General Counsel, 451 Seventh Street, SW., Washington, DC 20410.

Record source categories:

All data on the application for Multifamily Housing projects (HUD 92013) and other required HUD forms, drawings and narratives (Lender's submission package) is submitted to HUD Field Office.

Exemptions from certain provisions of the Act:

None.

[FR Doc. E7-14795 Filed 7-31-07; 8:45 am]

BILLING CODE 4210-67-P